DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (Awe”) solicits review and comment from local, State, and Federal agencies, and the public on the following permit requests.

DATES: Comments on these permit applications must be received on or before January 7, 2005.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-038109

Applicant: Theodore Lee, San Diego, California.

The permittee requests an amendment to take (harass by survey) the southwestern willow flycatcher (Empidonax traillii extimus); take (survey, capture, release, and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis); and take (survey, capture, and release) the arroyo toad (Bufo californicus) in conjunction with surveys throughout the range of each species in California for the purpose of enhancing their survival.

Permit No. TE-777965

Applicant: LSA Associates, Inc., Irvine, California.

The permittee requests an amendment to take (capture and collect and sacrifice) the Conservancy fairy shrimp (Branchinecta conservatio), the longhorn fairy shrimp (Branchinecta longiantenna), the Riverside fairy shrimp (Streptocephalus wootoni), and the San Diego fairy shrimp (Branchinecta sandiegonensis); and take (survey, capture, and release) the arroyo toad (Bufo californicus) in conjunction with surveys throughout the range of each species in California for the purpose of enhancing their survival.

Permit No. TE-094807

Applicant: Lorena Solorzano-Vincent, Oakland, California.

The applicant requests a permit to take (capture and collect and sacrifice) the Conservancy fairy shrimp (Branchinecta conservatio), the longhorn fairy shrimp (Branchinecta longiantenna), the Riverside fairy shrimp (Streptocephalus wootoni), and the San Diego fairy shrimp (Branchinecta sandiegonensis) in conjunction with surveys throughout the range of each species in California and Oregon for the purpose of enhancing their survival.

Permit No. TE-094308

Applicant: Shay Lawrey, Lake Arrowhead, California.

The applicant requests a permit to take (harass by survey) the southwestern willow flycatcher (Empidonax traillii extimus), take (locate and monitor nests) the least Bell's vireo (Vireo bellii pusillus), and take (capture, handle, and translocate) the San Bernardino kangaroo rat (Dipodomys merriami parvus) in conjunction with surveys in San Bernardino County, California, for the purpose of enhancing their survival.

Permit No. TE-063608

Applicant: Brian Lohstroh, San Diego, California.

The permittee requests an amendment to take (harass by survey) the southwestern willow flycatcher (Empidonax traillii extimus) in conjunction with surveys throughout the range of the species in California for the purpose of enhancing its survival.

Permit No. TE-807078

Applicant: Point Reyes Bird Observatory, Stinson Beach, California.

The permittee requests an amendment to take (harass by survey and locate and monitor nests) the southwestern willow flycatcher (Empidonax traillii extimus), and take (locate and monitor nests) the least Bell's vireo (Vireo bellii pusillus) in conjunction with surveys throughout the range of each species in California for the purpose of enhancing their survival.

Permit No. TE-054120

Applicant: Russell Huddleston, Sacramento, California.

The permittee requests an amendment to remove/reduce to possession (collect) Cordylanthus mollis ssp. mollis (soft bird's-beak), Eriogonum apricum var. apricum (lone buckwheat), Orcuttia viscida (Sacramento orcutt grass), Tucuoria mucronata (Solano Grass), Lasthenia conjugens (Contra Costa goldfields), Trifolium amoenum (showy Indian clover), Cirsium hydrophilum var. hdrophilum (Suisun thistle), and Pseudobahia bahiifolia (Hartweg's golden sunburst) in conjunction with surveys throughout the range of each species in California for the purpose of enhancing their survival.

Permit No. TE-095526

Applicant: Christopher Guilliams, San Diego, California.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lipidurus packardi); and take (survey by pursuit) the Quino checkerspot butterfly (Euphydryas editha quino) in conjunction with surveys throughout the range of each species in California for the purpose of enhancing their survival.

Permit No. TE-095858

Applicant: Arianne Glagola, Anaheim, California.

The applicant requests a permit to take (survey by pursuit) the Quino checkerspot butterfly (Euphydryas editha quino) in conjunction with surveys throughout the range of the species in California for the purpose of enhancing its survival.

Permit No. TE-095868

Applicant: David Kisner, Santa Barbara, California.

The applicant requests a permit to take (harass by survey and locate and monitor nests) the southwestern willow flycatcher (Empidonax traillii extimus) and the California least tern (Sterna antillarum browni), and take (locate and monitor nests) the least Bell's vireo (Vireo bellii pusillus) in conjunction with surveys throughout the range of each species in California for the purpose of enhancing their survival.

Permit No. TE-094983

Applicant: Santa Barbara Botanic Garden, Santa Barbara, California.

The applicant requests a permit to remove/reduce to possession (collect) Arabis hoffmannii (Hoffmann's rock-cress), Arenaria paludicola (Marsh sandwort), Astragauls pycnostachyus var. lanosisimus (Ventura marsh milk-vetch), Berberis nevinii (Nevin's barberry), Berberis pinnata ssp. insularis (island barberry), Castilleha grisea (San Clemente Island Indian paintbrush), Castilleja mollis (soft-leaved Indian paintbrush), Caulanthus californicus (California jewelflower), Cirsium fontinale var. obispoense (Chorro Creek bog thistle), Cirsium loncholepis (La Graciosa thistle), Clarkia speciosa ssp. immaculate (Pismo clarkia), Cordylanthus maritimus ssp. maritimus (salt marsh bird's-beak), Deinandra increscens ssp. villosa (Gaviota tarplant), Delphinium variegatum ssp. kinkiense (San Clemente Island larkspur), Dudleya traskiae (Santa Barbara Island dudleya), Eremalche kernensis (Kern mallow), Eriodictyon altissimum (Indian Knob mountain balm), Eriodictyon capitatum (Lompoc yerba santa), Erysimum menziesii ssp. yadonii (Menzies' wall-flower), Galium buxifolium (island bedstraw), Gilia tenuiflora ssp. hoffmannii (Hoffman's slender-flowered gilia), Layia carnosa (beach layia), Lithophragma maximum (San Clemente Island woodland star), Lotus dendroideus var. traskiae (San Clemente Island broom), Lupinus nipomensis (Nipomo Mesa lupine), Malacothamnus clementinus (San Clemente Island bush mallow), Malacothamnus fasciculatus var. nesioticus (Santa Cruz Island bush mallow), Malacothrix indecora (Santa Cruz Island malacothrix), Malacothrix squalida (island malacothrix), Pentachaeta lyonii (Lyon's pentachaeta), Rorippa gambellii (Gambel's watercress), Sibara filifoia (Santa Cruz Island rock-cress), and Thysanocarpus conchuliferus (Santa Cruz Island fringepod) in conjunction with surveys throughout the range of each species in California for the purpose of enhancing their survival.

Permit No. TE-095561

Applicant: Bertin Anderson, Blythe, California.

The applicant requests a permit to take (harass by survey) the southwestern willow flycatcher (Empidonax traillii extimus) and the Yuma clapper rail (Rallus longirostris yumanensis) in conjunction with surveys in Riverside County, California, for the purpose of enhancing their survival.

We solicit public review and comment on each of these recovery permit applications.

Dated: November 15, 2004.
Paul Henson,
Acting Manager, California/Nevada Operations Office, Fish and Wildlife Service.

[FR Doc. 04-26911 Filed 12-7-04; 8:45 am]

BILLING CODE 4310-55-P